DEPARTMENT OF ENERGY

Federal Energy Regulatory Commission

[Docket No. RP02-449-003]

Eastern Shore Natural Gas Company; Notice of Compliance Filing

September 5, 2003.

Take notice that on September 2, 2003, Eastern Shore Natural Gas Company (Eastern Shore) tendered for filing as part of its FERC Gas Tariff, Second Revised Volume No. 1, the tariff sheets listed on Appendix A to the filing, with a proposed effective date of October 1, 2003.

Eastern Shore states that on August 1, 2002, it filed revised tariff sheets to comply with the Commission's Order 587-O. Along with the revised tariff sheets, Eastern Shore requested a one-year extension of time to fully implement certain Web site requirements that mandated the use of electronic data interchange data sets and electronic delivery mechanisms for nominations, flowing gas, invoicing, and capacity release. Eastern Shore states that by letter order dated September 30, 2002, FERC granted Eastern Shore a one-year extension of time to comply with the North American Energy Standards Board (NAESB) Web site standards and data sets.

Eastern Shore states that the revised tariff sheets as filed on September 2, 2003 contain the required revisions necessary to comply with the Commission's September 30, 2002 and subsequent July 17, 2003 letter orders.

Eastern Shore also states that copies of its filing have been mailed to its customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 15, 2003.

Magalie R. Salas,
Secretary.

[FR Doc. 03-23381 Filed 9-12-03; 8:45 am]

BILLING CODE 6717-01-P